DEPARTMENT OF THE INTERIOR

Bureau of Land Management

[WO620 1820 XH 24 1A]

Call for Nominations for Resource Advisory Councils

AGENCY: Bureau of Land Management, Interior.

ACTION: Notice of Resource Advisory Council Call for Nominations.

SUMMARY: The purpose of this notice is to request public nominations for the Bureau of Land Management (BLM) Resource Advisory Councils (RACs) that have member terms expiring this year. The RACs provide advice and recommendations to BLM on land use planning and management of the public lands within their geographic areas. The BLM will consider public nominations for 45 days after the publication date of this notice.

DATES: Send all nominations to the appropriate BLM State Office by no later than April 14, 2008.

ADDRESSES: See SUPPLEMENTARY INFORMATION for the locations to send your nominations.

FOR FURTHER INFORMATION CONTACT: Justin Hall, U.S. Department of the Interior, Bureau of Land Management, Legislative Affairs and Correspondance, 1849 C Street, NW., MS-5654, Washington, DC 20240; 202-208-1423.

SUPPLEMENTARY INFORMATION: The Federal Land Policy and Management Act (FLPMA)(43 U.S.C. 1730) directs the Secretary of the Interior to involve the public in planning and issues related to management of lands administered by BLM. Section 309 of FLPMA directs the Secretary to select 10 to 15 member citizen-based advisory councils that are consistent with the requirements of the Federal Advisory Committee Act (FACA). As required by the FACA, RAC membership must be balanced and representative of the various interests concerned with the management of the public lands. The rules governing RACs are found at 43 CFR 1784. These include three categories:

Category One—Holders of Federal grazing permits and representatives of organizations associated with energy and mineral development, timber industry, transportation or rights-of-way, off-highway vehicle use, and commercial recreation;

Category Two—Representatives of nationally or regionally recognized environmental organizations, archaeological and historic organizations, dispersed recreation activities, and wild horse and burro organizations; and

Category Three—Representatives of State, county, or local elected office; representatives and employees of a State agency responsible for management of natural resources; representatives of Indian Tribes within or adjacent to the area for which the Council is organized; representatives of and employed as academicians involved in natural sciences; and the public-at-large.

Individuals may nominate themselves or others. Nominees must be residents of the State or States in which the RAC has jurisdiction. The BLM will evaluate nominees based on their education, training, experience, and their knowledge of the geographical area of the RAC. Nominees should demonstrate a commitment to collaborative resource decisionmaking. The following must accompany all nominations:

—letters of reference from represented interests or organizations,

—a completed background information nomination form, and

—any other information that speaks to the nominee's qualifications.

Simultaneous with this notice, BLM State Offices will issue press releases providing additional information for submitting nominations, with specifics about the number and categories of member positions available for each RAC in the State. Nominations for RACs should be sent to the appropriate BLM offices listed below:

Alaska

Alaska RAC

Sharon Wilson, Alaska State Office, BLM, 222 West 7th Avenue, #13, Anchorage, Alaska 99513, (907) 271-4418

Alternate: Pam Eldridge, (907) 271-5555

Arizona

Arizona RAC

Deborah Stevens, Arizona State Office, BLM, One North Central Avenue, Suite 800, Phoenix, Arizona 85004, (602) 417-9215

California

Central California RAC

David Christy, Folsom Field Office, BLM, 63 Natoma Street, Folsom, California 95630, (916) 985-4474

Northeastern California RAC

Jeff Fontana, Eagle Lake Field Office, BLM, 2950 Riverside Drive, Susanville, California 96130, (530) 252-5332

Northwestern California RAC

Jeff Fontana, Eagle Lake Field Office, BLM, 2950 Riverside Drive, Susanville, California 96130, (530) 257-0456

Colorado

Front Range RAC

Jon Dow, Royal Gorge Field Office, BLM, 3170 E. Main Street, Canon City, Colorado 81212, (719) 269-8559

Northwest RAC

David Boyd, Glenwood Springs Field Office, BLM, 50629 Highways 6 and 24, Glenwood Springs, Colorado 81601, (970) 947-2800

Southwest RAC

Melodie Lloyd, Grand Junction Field Office, BLM, 2815 H Road, Grand Junction, Colorado 81506, (970) 244-3097

Idaho

Coeur d'Alene District RAC

Lisa Wagner, Coeur d'Alene District Office, BLM, 3815 Schreiber Way, Coeur d'Alene, Idaho 83815, (208) 769-5014

Idaho Falls District RAC

Joanna Wilson, Idaho Falls District Office, BLM, 1405 Hollipark Drive, Idaho Falls, Idaho 83401, (208) 524-7550

Boise District RAC

MJ Byrne, Boise District Office, BLM, 3948 Development Avenue, Boise, Idaho 83705, (208) 384-3393

Twin Falls District RAC

Heather Tiel-Nelson, Twin Falls District Office, BLM, 2536 Kimberly Road, Twin Falls, Idaho 83301, (208) 736-2352

Montana and Dakotas

Eastern Montana RAC

Mark Jacobsen, Miles City Field Office, BLM, 111 Garryowen, Miles City, Montana 59301, (406) 233-2831

Central Montana RAC

Craig Flentie, Lewistown Field Office, BLM, 920 Northeast Maine, Lewistown, Montana 59457, (406) 538-1943

Western Montana RAC

Marilyn Krause, Butte Field Office, BLM, 106 North Parkmont, Butte, Montana 59701, (406) 533-7617

Dakotas RAC

Lonny Bagley, North Dakota Field Office, BLM, 99 23rd Avenue West, Suite A, Dickinson, North Dakota 58601, (701) 227-7703

Nevada

Mojave-Southern RAC; Northeastern Great Basin RAC; Sierra Front Northwestern RAC

Rochelle Ocava, Nevada State Office, BLM, 1340 Financial Boulevard, Reno, Nevada 89502, (775) 861-6588

New Mexico

New Mexico RAC

Theresa Herrera, New Mexico State Office, BLM, 1474 Rodeo Road, P.O. Box 27115, Santa Fe, New Mexico 87505, (505) 438-7517

Oregon/Washington

Eastern Washington RAC; John Day/Snake RAC; Southeast Oregon RAC

Pam Robbins, Oregon State Office, BLM, 333 SW First Avenue, P.O. Box 2965, Portland, Oregon 97208, (503) 808-6306

Utah

Utah RAC

Sherry Foot, Utah State Office, BLM, 440 West 200 South, Suite 500, P.O. Box 45155, Salt Lake City, Utah 84101, (801) 539-4195

Henri Bisson,
Deputy Director, Bureau of Land Management.

[FR Doc. E8-3782 Filed 2-27-08; 8:45 am]

BILLING CODE 4310-84-P